SECURITIES AND EXCHANGE COMMISSION

Issuer Delisting; Notice of Application of Boardwalk Equities Inc. To Withdraw Its Common Stock, No Par Value, From Listing and Registration on the New York Stock Exchange, Inc. File No. 1-15162

January 27, 2004.

Boardwalk Equities Inc., an Alberta, Canada corporation (“Issuer”), has filed an application with the Securities and Exchange Commission (“Commission”), pursuant to section 12(d) of the Securities Exchange Act of 1934 (“Act”) ¹ and Rule 12d2-2(d) thereunder,² to withdraw its Common Stock, no par value (“Security”), from listing and registration on the New York Stock Exchange, Inc. (“NYSE” or “Exchange”).

¹ 15 U.S.C. 78l(d).

² 17 CFR 240.12d2-2(d).

The Issuer stated in its application that it has met the requirements of NYSE by complying with all applicable laws in effect in the Province of Alberta, in which it is incorporated, and with the NYSE's rules governing an issuer's voluntary withdrawal of a security from listing and registration. The Issuer's application relates solely to the Security's withdrawal from listing on the NYSE and from registration under section 12(b) of the Act ³ and shall not affect its obligation to be registered under section 12(g) of the Act.⁴

³ 15 U.S.C. 78l(b).

⁴ 15 U.S.C. 78l(g).

The Board of Directors (“Board”) of the Issuer approved a resolution on January 8, 2004 to withdraw the Issuer's Security from listing on the NYSE. The Issuer states that the primary reason for the Board's decision to withdraw its Security from the NYSE is the increased regulatory burden and expense to the Issuer if the Security were to remain listed on the NYSE. The Board recognized that the holders of the Security would continue to enjoy liquidity in their investment since the Security is, and will continue to be, listed on the Toronto Stock Exchange.

Any interested person may, on or before February 18, 2004, submit by letter to the Secretary of the Securities and Exchange Commission, 450 Fifth Street NW., Washington, DC 20549-0609, facts bearing upon whether the application has been made in accordance with the rules of the NYSE and what terms, if any, should be imposed by the Commission for the protection of investors. All comment letters should refer to File No. 1-15162. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 04-2093 Filed 2-2-04; 8:45 am]

BILLING CODE 8010-01-P